GENERAL SERVICES ADMINISTRATION

Property Obtained Through the Use of Charge Cards; Notice of GSA Bulletin FMR B-25

AGENCY: Office of Governmentwide Policy, General Services Administration (GSA).

ACTION: Notice of a bulletin.

SUMMARY: This notice announces GSA Federal Management Regulation (FMR) Bulletin B-25 which provides guidance to all agencies acquiring property using the government charge card.

DATES: The bulletin announced in this notice became effective January 25, 2010.

FOR FURTHER INFORMATION CONTACT: For clarification of content, contact General Services Administration, Office of Governmentwide Policy, Office of Travel, Transportation and Asset Management, at (202) 501-1777. Please cite Bulletin FMR B-25.

SUPPLEMENTARY INFORMATION:

A. Background

Although charge cards provide a great benefit in streamlining procurement of needed items, the property obtained in this way presents special management and accountability challenges to agencies. Appendix B of OMB Circular A-123 prescribes policies and procedures to agencies regarding how to maintain internal controls that reduce the risk of fraud, waste, and error in Government charge card programs. As provided in Appendix B of OMB Circular A-123, agencies must have reasonable, effective internal controls so that this property can be accounted for and to ensure property is limited to use for official purposes.

The Office of Management and Budget (OMB) Open Government Directive instructs agencies to take specific actions to implement the principles of transparency, participation and collaboration. Agencies are accountable for the quality and objectivity of internal controls over the spending information. Agencies must make certain that information conforms to OMB guidance on information quality.

B. Procedures

Bulletins regarding asset management are located on the Internet at www.gsa.gov/fmrbulletin as Federal Management Regulation (FMR) bulletins.

Dated: January 29, 2010.
Robert Holcombe,
Director, Personal Property Management Policy.

[FR Doc. 2010-2496 Filed 2-4-10; 8:45 am]

BILLING CODE 6820-14-P